DEPARTMENT OF ENERGY

Federal Energy Regulatory Commission

[Project No. 2503-057]

Duke Energy Corporation; Notice of Site Visit To Keowee-Toxaway Project

June 26, 2000.

Take notice that Commission staff will hold a site visit on Thursday, July 6, 2000 from approximately 1 p.m. to 4 p.m. with representatives of Duke Energy Corporation (licensee) and the Keowee Key Property Owners Association (KKPOA) regarding the licensee's proposed leasing of 11.34 acres of project lands and waters to the KKPOA for existing and proposed marina facilities within Keowee Key development, and established residential community with single family homes and condominium units located on Lake Keowee in Oconee County, South Carolina.

The purpose of the site visit is to enable Commission staff responsible for preparing the environmental assessment of the subject proposal to view the project area's existing facilities, and to inspect the three sites proposed to be developed with new cluster docks for Keowee Key residents. Officials of state and federal resource agencies and representatives of concerned non-governmental organizations are invited to attend.

Existing marina facilities at Keowee Key currently include 12 cluster docks with a total of 185 boat slips, 1 boat ramp, and 2 commercial gasoline sales docks. Additional marina facilities proposed to be constructed there include 2 cluster docks with a total of 40 slips at Chestnut Point, 2 cluster docks with a total of 30 slips at Laurel Park, and 1 cluster dock with 20 slips at Leisure Trail.

Persons planning to attend the site visit should notify Mr. Joe Hall, Lake Management Representative, Duke Power Company, Charlotte, NC at (704) 382-8576 and should provide their own transportation to and from Keowee Key. All participants will meet at the KKPOA conference center at Keowee Key, located at the intersection of Highways 130 and 183, approximately 9 miles from the town of Seneca.

If you have any questions concerning this matter, please contact Jim Haimes, EA Coordinator for the Commission, at (202) 219-2780.

David P. Boergers,
Secretary.

[FR Doc. 00-16569 Filed 6-29-00; 8:45 am]

BILLING CODE 6717-01-M